DEPARTMENT OF HOMELAND SECURITY

Coast Guard

[Docket No. USCG-2008-0035]

Proposed Expansion of the Cove Point Facility, Cove Point, MD: Final Supplemental Environmental Assessment and Finding of No Significant Impact

AGENCY: Coast Guard, DHS.

ACTION: Notice of Availability of Final Supplemental Environmental Assessment and Finding of No Significant Impact.

SUMMARY: The Coast Guard announces the availability of the Final Supplemental Environmental Assessment (EA) and the Finding of No Significant Impact (FONSI) that evaluated the potential environmental impacts resulting from the proposed issuance of a Letter of Recommendation (LOR) on the suitability of the waterway for the expansion of the Cove Point LNG facility for Dominion Cove Point LNG, LP, in Cove Point, MD.

ADDRESSES: Comments and material received from the public as well as documents mentioned in this notice as being available in the docket, are part of the Coast Guard docket number USCG-2008-0035 and are available for inspection or copying at the Docket Management Facility, U.S. Department of Transportation, room PL-401, 400 Seventh Street, SW., between 9 a.m. and 5 p.m., Monday through Friday, except for Federal Holidays. You may also find this docket on the internet at http://www.regulations.gov.

FOR FURTHER INFORMATION CONTACT: If you have questions on this notice, call Lieutenant Commander Rogers Henderson, Coast Guard, telephone 202-372-1411 or Mr. Ken Smith, Coast Guard, telephone 202-372-1413. If you have any questions on viewing material on the docket, call Renee V. Wright, Program Manager, Docket Operations, telephone 202-366-9826.

SUPPLEMENTARY INFORMATION: In accordance with the National Environmental Policy Act of 1969 (Section 102(2)(c)), as implemented by the Council of Environmental Quality regulations (40 CFR parts 1500-1508), the applicant prepared a Final Supplemental EA and the Coast Guard prepared the FONSI for the Proposed Expansion of the Cove Point Facility, Cove Point, MD.

Response to Comments

The Coast Guard requested comments on the Draft Supplemental EA when the Notice of Availability for the Draft Supplemental EA was published on March 13, 2008 (73 FR 13551). The Coast Guard received nine comments on the draft Supplemental EA.

Two commenters agreed with the Coast Guard that the proposed action will not have a significant impact on the State of Maryland's environment or historic properties.

One commenter stated the current security measures for the facility and during tanker loading/unloading operations are insufficient. The Coast Guard disagrees because the facility is regulated under the Maritime Transportation Security Act (MTSA) of 2002 and as a result must comply with a Coast Guard approved Facility Security Plan. Foreign vessels which make LNG deliveries to the terminal must have a valid International Ship Security Certificate on board attesting to the vessel's compliance with the International Convention for Safety of Life at Sea and the Ship and Port Facility Security (ISPS) Code. The ISPS Code is the foreign equivalent to MTSA requirements. In addition, Cove Point has been receiving LNG shipments and operating in compliance with the safety and security provisions and operating restrictions of the Letter of Recommendation (LOR) issued by the Coast Guard to Cove Point in 2002.

One commenter discussed the applicability of the Sandia 2005 risk assessment to the proposed Expansion Project. The Coast Guard disagrees that this is applicable since the Sandia 2005 assessment referenced by the commenter is apparently the Sandia Report SAND2005-7339: “Review of the Independent Risk Assessment of the Proposed Cabrillo Liquefied Natural Gas Deepwater Port project.” This report is not applicable to this proposed project because it addresses a deepwater project with a a Floating Storage and Regasification Unit (FSRU), and not the waterway for an LNG terminal. Instead, the applicable Sandia report for Cove Point is the 2004 Sandia Report, SAND2004-6258: “Guidance on Risk Analysis and Safety Implications of a Large Liquefied Natural Gas Spill on Water.” This report identifies three “Zones of Concerns”. The Sandia 2004 report shows the conservative maximum hazard distance is defined as Zone 3, which would occur in the unlikely event of a LNG vapor cloud release but would only create a hazard within a distance of about 2.2 miles from the point of the release.

One commenter suggested a major LNG spill would affect the cooling towers of the Calvert Cliffs Nuclear Power Plant. The Coast Guard disagrees with this comment since the plant is well outside the furthest potential impact zone, Zone 3, i.e. the distance of 2.2 miles, per the applicable Sandia report.

One commenter stated that the air pollutants from LNG tankers, marine escorts, and traffic specifically related to LNG were not addressed since the Maryland Department of the Environment covers only stationary equipment. The Coast Guard disagrees with this comment. These air pollutants were addressed in the April 2006 FERC FEIS, Appendix H, “General Conformity Determination for the Proposed Cove Point Expansion Project” which the Supplemental EA adopted. The General Conformity Rule, found in 40 CFR Part 51, Subpart W and 40 CFR Part 93, Subpart B, applies to proposed actions in a nonattainment or maintenance area that are not otherwise regulated under the New Source Review (NSR) programs or Operating Permit Program. Consequently, the General Conformity Rule applies to direct emissions, such as construction and vessel activity emissions, which are not long-term stationary source operations. As part of the General Conformity Determination, LNG ships and tugs emissions were estimated based on roundtrip operation in state waters.

One commenter declared that uncontrolled toxic air pollutants from the proposed project are expected to form toxic particulates matter hazardous to human health. The Coast Guard disagrees with this comment. As the Supplemental EA and FONSI discuss, we found that there will be no significant adverse impact from the toxic air pollutants and disagreed that these pollutants are uncontrolled. These pollutants are subject to the U.S. EPA Clean Air Act's National Emission Standards for Hazardous Air Pollutants (HAP). Under the HAP permitting process, it was established the proposed project's total potential HAP emission rate, 11 tons per year (tpy), was well below the threshold for facilities subject to HAP regulations which is 25 tpy.

One commenter expressed concern regarding the volume of ballast water intake from the increase of LNG tankers resulting in an increase of salinity of the Chesapeake Bay. The Coast Guard disagrees with this comment. The volume of water removed by each LNG ship as a percentage of the total amount of the Bay is negligible and would not increase salinity in the Chesapeake Bay.

One commenter stated the impact of seawater intake for ballast from the increase in LNG tankers did not address the impact to aquatic organisms. The Coast Guard disagrees with this comment. The potential impacts to the aquatic organisms were addressed in Section 7 of the Supplemental EA. The calculated seawater intake on the LNG vessels is 0.6 feet per second. This velocity is similar to the 0.5 feet per second identified by the National Marine Fisheries Service as minimizing entrainment and impingement of aquatic organisms.

Supplemental Environmental Assessment

We prepared a Supplemental EA to identify and examine the reasonable alternatives and assess their potential environmental impacts. The Supplemental EA examined the potential effects associated with the incremental increase in LNG ship traffic within U.S. territorial waters on natural, cultural, and human resources.

Our preferred alternative is to issue a LOR with conditions. This action will assure that the waterway is suitable, safe, and environmentally sound for the increased LNG vessel traffic resulting from the Cove Point Expansion Project. This preferred alternative as well as other alternatives are further described in the supplemental EA.

The Coast Guard determined the Supplemental EA adequately discusses the environmental issues and impacts of the proposed action. It provides sufficient evidence and analysis for determining that an environmental impact statement is not required. Therefore, a Finding of No Significant Impact was issued for the preferred alternative of the proposed action.

Dated: June 17, 2008.
Capt. M.L. Blair,
Acting Director of Commercial Regulations and Standards.

[FR Doc. E8-14288 Filed 6-24-08; 8:45 am]

BILLING CODE 4910-15-P